NUCLEAR REGULATORY COMMISSION

[Docket No. 50-0219-LR; ASLBP No. 06-844-01-LR]

Atomic Safety and Licensing Board; In the Matter of Amergen Energy Company, LLC; License Renewal for Oyster Creek Nuclear Generating Station

March 28, 2006.

Before Administrative Judges: E. Roy Hawkens, Chairman, Dr. Paul B. Abramson, Dr. Anthony J. Baratta.

Notice of Hearing

Application for 20-Year License Renewal

This proceeding concerns the application by AmerGen Energy Company, LLC (“AmerGen”) to renew its operating license for the Oyster Creek Nuclear Generating Station (“Oyster Creek”) for twenty years beyond the current expiration date of April 9, 2009. In response to the September 15, 2005, Notice of Opportunity for Hearing (70 FR 54,585 (Sept. 15, 2005)), two Requests for Hearing and Petitions to Intervene were filed on November 14, 2005. One Petition was filed by the New Jersey Department of Environmental Protection [hereinafter referred to as New Jersey], and the other Petition was filed by the Nuclear Information and Resource Service (“NIRS”), Jersey Shore Nuclear Watch, Inc., Grandmothers, Mothers and More for Energy Safety, New Jersey Public Interest Research Group, New Jersey Sierra Club, and New Jersey Environmental Federation [hereinafter referred to collectively as NIRS]. On December 9, 2005, this Atomic Safety and Licensing Board was established by the Commission to preside over the proceeding.

On February 27, 2006, this Board issued a Memorandum and Order in which we (LBP-06-07, 63 NRC _, _ (slip op. at 2) (Feb. 27, 2006)): (1) denied New Jersey's Request for Hearing and Petition to Intervene; ¹ and (2) granted NIRS's Request for Hearing and Petition to Intervene. We concluded that NIRS's contention was admissible to the extent it challenged AmerGen's aging management program for measuring corrosion in the sand bed region of the drywell liner (id. at 33); however, it was not admissible with respect to the areas above or below the sand bed region (id. at 32-33 & nn.27, 28).²

¹ Although New Jersey established standing, the Board concluded that it failed to proffer an admissible contention.

² On February 7, 2006, NIRS filed a Motion for Leave to Add Contentions or Supplement the Basis of the Current Contention, which AmerGen and the NRC Staff opposed. On March 22, 2006, this Board issued a Memorandum and Order denying NIRS's Motion (LBP-06-11, 63 NRC _ (slip op.) (Mar. 22, 2006)).

In light of the foregoing, please take notice that a hearing will be conducted in this proceeding. The hearing will be governed by the informal hearing procedures set forth in 10 CFR part 2, subpart L (10 CFR 2.1200-.1213). During the course of the proceeding, the Board may conduct an oral argument (id. § 2.331), may hold pre-hearing conferences (id. § 2.329), and may conduct evidentiary hearings (id. § 2.1207).³ The public is invited to attend any oral argument, pre-hearing conference, or evidentiary hearing unless otherwise ordered by the Commission (id. §§ 2.327-.328). Notices of these sessions will be published in the Federal Register and/or made available to the public at the NRC Public Document Room, located at One White Flint, 11555 Rockville Pike (first floor), Rockville, Maryland, and through the NRC Web site, http://www.nrc.gov.

³ The parties to this proceeding are advised that they will be contacted in the near future by the Board's law clerk for purposes of setting up a scheduling conference (10 CFR 2.332; 10 CFR Pt. 2, App. B (II), Model Milestones for Hearings Conducted Under 10 CFR Part 2, Subpart L).

Additionally, as provided in 10 CFR 2.315(a), any person not a party to the proceeding may submit a written limited appearance statement setting forth his or her position on the issues in this proceeding. These statements do not constitute evidence, but may assist the Board and/or parties in defining the issues being considered. Persons wishing to submit a written limited appearance statement should send it by mail to the Office of the Secretary, U.S. Nuclear Regulatory Commission, Washington, DC 20555-0001, Attention: Rulemakings and Adjudications Staff. A copy of the statement should also be served on the Chairman of this Atomic Safety and Licensing Board by mail to the Atomic Safety and Licensing Board Panel, U.S. Nuclear Regulatory Commission, Washington, DC 20555-0001. At a later date, the Board may entertain oral limited appearance statements at a location or locations in the vicinity of the Oyster Creek facility. Notice of any oral limited appearance sessions will be published in the Federal Register and/or made available to the public at the NRC Public Document Room and on the NRC Web site, http://www.nrc.gov.

Documents relating to this proceeding are available for public inspection at the NRC's Public Document Room or electronically from the publicly available records component of NRC's document system (ADAMS). ADAMS is accessible from the NRC Web site at http://www.nrc.gov/reading-rm/adams.html. Persons who do not have access to ADAMS or who encounter problems in accessing the documents located in ADAMS may contact the NRC Public Document Room reference staff by telephone at 1-800-397-4209 or 301-415-4737, or by e-mail to pdr@nrc.gov.

It is so ordered.

For the Atomic Safety and Licensing Board.⁴
⁴ Copies of this Notice of Hearing were sent this date by Internet e-mail to counsel for: (1) AmerGen; (2) New Jersey; (3) NIRS; and (4) the NRC Staff.
March 28, 2006.
E. Roy Hawkens,
Chairman, Administrative Judge, Rockville, Maryland.

[FR Doc. E6-4785 Filed 3-31-06; 8:45 am]

BILLING CODE 7590-01-P